DEPARTMENT OF DEFENSE

Department of the Army; Corps of Engineers

Notice of Intent To Prepare an Environmental Impact Statement/Environmental Impact Report for the Section 408 Permission for the Southport Sacramento River Early Implementation Project, West Sacramento, CA

AGENCY: Department of the Army, U.S. Army Corps of Engineers; DoD.

ACTION: Notice of intent.

SUMMARY: Pursuant to the National Environmental Policy Act of 1969, as amended, and the California Environmental Quality Act (CEQA), the U.S. Army Corps of Engineers (USACE) intends to prepare an Environmental Impact Statement/Environmental Impact Report (EIS/EIR) under Section 14 of the Rivers and Harbors Act of 1899 (as amended) (33 U.S.C. 408), and Section 404 of the Clean Water Act (33 U.S.C. 1344), for the proposed Southport Sacramento River Early Implementation Project (EIP), sponsored by the West Sacramento Area Flood Control Agency (WSAFCA). Figures of the project area can be viewed at http://www.cityofwestsacramento.org/city/flood.

WSAFCA is planning the Southport Sacramento River EIP to implement flood-risk reduction measures along the Sacramento River South Levee in the City of West Sacramento, Yolo County, CA. The project reach extends along the right bank of the Sacramento River south of the barge canal, downstream approximately 6.4 miles to the South Cross Levee, protecting the Southport community of West Sacramento. The 3.3-square mile study area encompasses the area of levee improvement along the river corridor and the potential soil borrow sites. In order to implement the project, the sponsor must acquire permission from USACE to alter the Federal project under Section 14 of the Rivers and Harbors Act of 1899 (as amended) (33 U.S.C. 408 or, Section 408). USACE also has authority under Section 404 of the Clean Water Act (33 U.S.C. 1344) over activities involving the discharge of dredged or fill material to waters of the United States, which are known to be in the project area. The project would bring the levee up to standard with Federal and state flood protection criteria, as well as providing opportunities for ecosystem restoration and public recreation. USACE, acting as the federal lead agency under NEPA, and WSAFCA, acting as the state lead agency under the CEQA in coordination with the Central Valley Flood Protection Board, have determined that an EIS/EIR should be prepared to describe alternatives, potential environmental effects, and mitigation measures.

DATES: Public scoping meetings will be held on Thursday, September 15, 2011 at 3:30 p.m. and 6:30 p.m. at the West Sacramento Recreation Center, 2801 Jefferson Boulevard, West Sacramento, CA. Send written comments by September 26, 2011 (see ADDRESSES).

ADDRESSES: Written comments and suggestions concerning the scope and content of the environmental information may be submitted to Mr. John Suazo, U.S. Army Corps of Engineers, Sacramento District, Attn: Planning Division (CESPK-PD-R), 1325 J Street, Sacramento, CA 95814. Requests to be placed on the mailing list also should be sent to this address.

FOR FURTHER INFORMATION CONTACT: Questions about the proposed actions and environmental review process should be addressed to John Suazo at (916) 557-6719, e-mail: john.suazo@usace.army.mil (see ADDRESSES).

SUPPLEMENTARY INFORMATION:

1. Proposed Action. WSAFCA is proposing a project along the Sacramento River west levee under the California DWR's Early Implementation Program to expeditiously complete flood-risk reduction measures. Known as the Southport Sacramento River EIP, the project proposes implementation of flood-risk reduction measures (measures) along a 6.4-mile long reach between the barge canal downstream to the South Cross Levee. Primary deficiencies of the levee include through-seepage, under-seepage, and embankment instability (e.g., overly steepened slopes). As part of the project, an EIS/EIR is being prepared. USACE has authority under Section 14 of the Rivers and Harbors Act of 1899 (as amended) (33 U.S.C. 408), over alterations to federal flood control project levees and any such alterations as proposed by WSAFCA are subject to approval by USACE. USACE also has authority under Section 404 of the Clean Water Act (33 U.S.C. 1344) over activities involving the discharge of dredged or fill material to waters of the United States, which are known to be in the project area. Under Section 10 of the Rives and Harbors Act, the District Engineer may permit activities which do not affect navigable waters. Due to these authorities, USACE is acting as the lead agency for the EIS pursuant to NEPA. WSAFCA will be acting as the lead agency for the EIR according to CEQA as the public agency that has the principal responsibility for carrying out and approving the project.

2. Alternatives. The EIS/EIR will consider several alternatives for reducing flood damage. Each alternative analyzed during the investigation will consist of a combination of several measures to reduce the risk of flooding. These measures include, but are not limited to, installing slurry cutoff walls, constructing seepage or stability berms, relief wells, rock slope protection, slope flattening, and potential new levee alignments (setback or adjacent levees).

3. Scoping Process.

a. Public scoping meetings will be held on September 15, 2011, to present information to the public and to receive comments from the public on the project. These meetings are intended to initiate the process to involve concerned individuals, and local, State, and Federal agencies.

b. Significant issues to be analyzed in depth in the environmental documents include effects on hydraulics, wetlands and other waters of the U.S., vegetation and wildlife resources, special-status species, aesthetics, cultural resources, recreation, land use, fisheries, agricultural resources, water quality, air quality, transportation, and socioeconomics; and cumulative effects of related projects in the study area.

c. USACE is consulting with the State Historic Preservation Officer to comply with the National Historic Preservation Act and with the U.S. Fish and Wildlife Service and National Marine Fisheries Service to comply with the Endangered Species Act. USACE also is coordinating with the U.S. Fish and Wildlife Service to comply with the Fish and Wildlife Coordination Act.

d. A 45-day public review period will be provided for individuals and agencies to review and comment on the draft environmental document. All interested parties are encouraged to respond to this notice and provide a current address if they wish to be notified of the draft EIS/EIR circulation.

4. Availability. The draft EIS/EIR for the Southport Sacramento River EIP is scheduled to be available for public review and comment in mid-2012.

Dated: August 17, 2011.
William J. Leady,
COL, EN, Commanding.

[FR Doc. 2011-21878 Filed 8-25-11; 8:45 am]

BILLING CODE 3720-58-P